DEPARTMENT OF HEALTH AND HUMAN SERVICES

Office of the Secretary

Findings of Scientific Misconduct

AGENCY: Office of the Secretary, HHS.

ACTION: Notice.

SUMMARY: Notice is hereby given that the Office of Research Integrity (ORI) and the Acting Assistant Secretary for Health have taken final action in the following case: Hans E. Geisler, M.D., Saint Vincent Hospital and Health Care Center: Based on the report of an inquiry and investigation conducted by Saint Vincent Hospital (SVH) in Indianapolis, Indiana, and additional analysis conducted by ORI in its oversight review, the U.S. Public Health Service (PHS) found that Hans E. Geisler, M.D., former Staff Physician and Principal Investigator for SVH's studies under the Gynecologic Oncology Group (GOG), engaged in scientific misconduct by soliciting a pathologist to falsify the originally correct tissue-type on the pathology report (omentum) as being another type (ovary) and submitting the falsified report to the GOG group member at the University of Iowa, in order to justify enrollment of a patient in GOG clinical protocol 182.

The questioned research was supported by National Institutes of Health (NIH) funds to the University of Iowa through the American Society for Obstetrics and Gynecology under National Cancer Institute (NCI), National Institutes of Health (NIH), cooperative agreement U10 CA27469.

Dr. Geisler has entered into a Voluntary Exclusion Agreement (Agreement ) in which he has voluntarily agreed, for a period of three (3) years, beginning on December 2, 2005:

(1) To exclude himself from serving in any advisory capacity to PHS including but not limited to service on any PHS advisory committee, board, and/or peer review committee, or as consultant; and

(2) That any institution which uses the Respondent in any capacity on PHS-supported research, or that submits an application for PHS support for a research project on which the Respondent's participation is proposed or submits a report of PHS-funded research in which the Respondent's participation is continuing, must concurrently submit a plan for supervision of the Respondent's duties to the funding agency for approval. The supervisory plan must be designed to ensure the scientific integrity of the Respondent's research contribution. A copy of the supervisory plan must also be submitted to ORI by the institution. Respondent agrees that he will not participate in any PHS-supported research until such a supervision plan is submitted to ORI.

Respondent disagrees with the ORI finding set forth herein but executes this Agreement to avoid further proceedings and bring this matter to a close. The execution of this Agreement shall not be deemed an admission to the charge of scientific misconduct by the Respondent.

FOR FURTHER INFORMATION CONTACT: Director, Division of Investigative Oversight, Office of Research Integrity, 1101 Wootton Parkway, Suite 750, Rockville, MD 20852, (240) 453-8800.

Chris B. Pascal,
Director, Office of Research Integrity.

[FR Doc. E5-8202 Filed 12-30-05; 8:45 am]

BILLING CODE 4150-31-P